DEPARTMENT OF AGRICULTURE

Forest Service

Information Collection; Virtual Incident Procurement (VIPR) System Existing Vendor Survey

AGENCY: Forest Service, USDA.

ACTION: Notice; request for comment.

SUMMARY: In accordance with the Paperwork Reduction Act of 1995, the Forest Service is seeking comments from all interested individuals and organizations on the new information collection, Virtual Incident Procurement (VIPR) System Existing Vendor User Survey.

DATES: Comments must be received by e-mail on or before August 16, 2010 to be assured for consideration. Comments received after that date will be considered to the extent practicable.

ADDRESSES: Comments concerning this notice should be e-mailed to VIPR@fs.fed.us with “VIPR Vendor Survey Comments” entered into the subject line of the e-mail or mailed to Forest Service, USDA, Washington Office Acquisition Management Systems; 2150 Centre Ave., Bldg. A, Suite 317; Fort Collins, CO 80526. The public may inspect comments via the Internet at: http://www.fs.fed.us/business/incident/vipr/comments.php.

FOR FURTHER INFORMATION CONTACT: Larry Bowser, Washington Office Acquisition Management Systems Branch Chief at 970-295-5800. Individuals who use telecommunication devices for the deaf (TDD) may call the Federal Relay Service (FRS) at 800-877-8339, between 8 a.m. and 8 p.m, e.s.t., Monday through Friday.

SUPPLEMENTARY INFORMATION: Title: Virtual Incident Procurement (VIPR) Existing Vendor User Survey.

OMB Number: 0596-New.

Type of Request: New.

Abstract: Virtual Incident Procurement (VIPR) is an acquisition system designed to solicit, award, and manage preseason incident agreements and contracts for equipment and services at the Forest Service. Opinions and comments from existing VIPR vendor users are needed to evaluate the acquisition system leading to program improvements and to potential system functionality upgrades. For this reason, the Forest Service desires to question vendor users utilizing an online, electronic survey.

The information will be collected and analyzed by the Forest Service Acquisition Management System Branch. The Forest Service will inquire and collect surveys from existing VIPR vendor users on their individual experiences with the acquisition system, customer service support, and other supporting tools. The information will be used to assist program management enhancements, identify potential system upgrades, and improve overall customer service and other support tools. Results from the information collection may be shared with other Forest Service divisions, with agencies outside of the Forest Service, and with the public.

The authorization to survey vendors for customer service improvements comes from Executive Order 12862, issued September 11, 1993, which directs Federal agencies to change the way they do business, to reform their management practices, and to provide service to the public that matches or exceeds the best service available in the private sector. The survey will provide the Forest Service with the necessary information to meet the terms of the Executive order.

Estimate of Annual Burden: 20 minutes.

Type of Respondents: Existing VIPR vendors.

Estimated Annual Number of Respondents: 3,000.

Estimated Annual Number of Responses per Respondent: 1.

Estimated Total Annual Burden on Respondents: 1,000 Hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 9, 2010.
Thelma J. Strong,
Acting Associate Deputy Director, Business Operations.

[FR Doc. 2010-14332 Filed 6-14-10; 8:45 am]

BILLING CODE 3410-11-P